DEPARTMENT OF COMMERCE

National Oceanic and Atmospheric Administration

Hydrographic Services Review Panel; Meeting

AGENCY: National Ocean Service, National Oceanic and Atmospheric Administration, Department of Commerce.

ACTION: Notice of open meeting.

SUMMARY: The Hydrographic Services Review Panel (HSRP) was established by the Secretary of Commerce and is the only Federal Advisory Committee with the responsibility to advise the Under Secretary of Commerce for Oceans and Atmosphere on matters related to the responsibilities and authorities set forth in section 303 of the Hydrographic Services Improvement Act of 1998, its amendments, and such other appropriate matters the Under Secretary refers to the Panel for review and advise.

DATES: The meeting will be held Wednesday, April 14, 2004, from 8:30 a.m. to 5 p.m. The times and agenda topics described below may be subject to change. Refer to the web page listed below for the most up-to-date meeting agenda.

ADDRESSES: The meeting will be held at the Washington DC/Silver Spring Hilton Hotel (Maryland Room), 8727 Colesville Road, Silver Spring, MD 20910.

FOR FURTHER INFORMATION CONTACT: Roger Parsons, Designated Federal Officer, Office of Coast Survey, National Ocean Service, NOAA (N/CS), 1315 East West Highway, Silver Spring, MD 20910. Phone: (301) 713-2770, Fax: (301) 713-4019; e-mail: Hydroservices.panel@noaa.gov or visit the NOAA HSRP Web site at http://nauticalcharts.noaa.gov/ocs/hsrp/hsrp.htm.

SUPPLEMENTARY INFORMATION: The meeting will be open to public participation with a 30-minute time period set aside on Wednesday, April 14 at approximately 4 p.m., for direct verbal comments or questions from the public. Each individual or group making a verbal presentation will be limited to a total time of five (5) minutes. Written comments (at least 40 copies) should be submitted to the Designated Federal Official by April 6, 2004. Written comments received by the HSRP Designated Federal Official after April 6, 2004, will be distributed to the HSRP, but may not be reviewed prior to the meeting date. Approximately one hundred (100) seats will be available for the public including five (5) seats reserved for the media. Seats will be available on a first-come, first served basis.

Matters To Be Considered: The meeting will include discussion on the following topics: (1) The National Survey Plan: Development, Maintenance and Revision, (2) NOAA In-house Hydrographic Surveying Capacity, (3) Hydrographic Services Contracting, (4) NOAA/University of New Hampshire Joint Hydrographic Center Activities, (5) Hydrographic Data Processing Backlog (6) Roles of Regional Navigation Managers & Navigation Response Teams, (7) National Water Level and Tidal Currents Programs, (8) Physical Oceanographic Real-Time System (9) Modeling Activities in Support of Safe Navigation, (10) Shoreline Mapping and Height Modernization Program, (11) Electronic Navigational Chart (ENC) Program, and, (12) Public Statements.

Dated: March 26, 2004.
Jamison S. Hawkins,
Deputy Assistant Administrator for Ocean Services and Coastal Zone Management, National Oceanic and Atmospheric Administration.

[FR Doc. 04-7280 Filed 3-31-04; 8:45 am]

BILLING CODE 3510-JE-U